ENVIRONMENTAL PROTECTION AGENCY

[EPA-HQ-OPP-2006-0194; FRL-7772-5]

Pesticide Product; Registration Approval

AGENCY: Environmental Protection Agency (EPA).

ACTION: Notice.

SUMMARY: This notice announces Agency approval of applications to register the pesticide products, Avachem Sorbitol Manufacturing Use Product; Avachem Sorbitol Octanoate 90.0%; LockDownretro, containing active ingredients not included in any currently registered product pursuant to the provisions of section 3(c)(5) of the Federal Insecticide, Fungicide, and Rodenticide Act (FIFRA), as amended.

FOR FURTHER INFORMATION CONTACT:

The Regulatory Action Leader, Biopesticides and Pollution Prevention Division (7511C), listed in the following table:

File Symbol | Regulatory Action Leader | Mailing Address, Telephone number and E-mail Address
70950-3; 70950-4 | Denise Greenway | 1200 Pennsylvania Avenue, NW, Washington DC 20460-0001 703-308-8263 Greenway.denise@epa.gov
82681-1 | Phil Hutton | 1200 Pennsylvania Avenue, NW, Washington DC 20460-0001 703-308-8260 Hutton.phil@epa.gov

SUPPLEMENTARY INFORMATION:

I. General Information

A. Does this Action Apply to Me?

You may be potentially affected by this action if you are an agricultural producer, food manufacturer, or pesticide manufacturer. Potentially affected entities may include, but are not limited to:

• Crop production (NAICS code 111)

.

• Animal production (NAICS code 112)

.

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established a docket for this action under Docket identification number (ID) EPA-HQ-OPP-2006-0194; FRL-7772-5. Publicly available docket materials are available either electronically at http://www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

In accordance with section 3(c)(2) of FIFRA, a copy of the approved label, the list of data references, the data and other scientific information used to support registration, except for material specifically protected by section 10 of FIFRA, are also available for public inspection. Requests for data must be made in accordance with the provisions of the Freedom of Information Act and must be addressed to the Freedom of Information Office (A-101), 1200 Pennsylvania Ave., NW., Washington, DC 20460-0001. The request should: Identify the product name and registration number and specify the data or information desired.

2. Electronic access. You may access this Federal Register document electronically through the EPA Internet under the Federal Register listings at http://www.epa.gov/fedrgstr/.

II. Did EPA Approve the Application?

The Agency approved the applications after considering all required data on risks associated with the proposed uses of Colletotrichum gloeosporioides f.sp. aeschynomene, and Sorbitol Octanoate, and information on social, economic, and environmental benefits to be derived from use. Specifically, the Agency has considered the nature of the chemical and its pattern of use, application methods and rates, and level and extent of potential exposure. Based on these reviews, the Agency was able to make basic health and safety determinations which show that Colletotrichum gloeosporioides f.sp. aeschynomene, and Sorbitol Octanoate, when used in accordance with widespread and commonly recognized practice, will not generally cause unreasonable adverse effects to the environment.

III. Approved Applications

1. EPA issued a notice, published in the Federal Register of September 29, 2004 (69 FR 58164) (FRL-7679-2), which announced that AVA Chemical Ventures, L.L.C., 80 Rochester Avenue, Suite 214, Portsmouth, NH 03801, had submitted an application to register the pesticide product, Avachem Sorbitol Octanoate Manufacturing Use Product, an insecticide (EPA File Symbol 70950-U), containing sorbitol octanoate at 90.35%. This product was not previously registered.

The application was approved on January 17, 2006, as Avachem Sorbitol Octanoate Manufacturing Use Product (EPA Registration Number 70950-4) for manufacturing use. Note that the active ingredient concentration was slightly reduced and represents 90.0% of the registered product.

In the same notice, EPA announced that AVA Chemical Ventures, L.L.C., 80 Rochester Avenue, Suite 214, Portsmouth, NH 03801, had submitted an application to register the pesticide product, Avachem Sorbitol Octanoate 90.0%, insecticide (EPA File Symbol 70950-G), containing sorbitol octanoate at 90.0%. This product was not previously registered.

The application was approved on January 17, 2006, as Avachem Sorbitol Octanoate 90.0% (EPA Registration Number 70950-3) for insecticidal use.

2. EPA issued another notice, published in the Federal Register of March 8, 2006), (71 FR 11621) (FRL-7765-2), which announced that Agricultural Research Initiatives, Inc, 700 Research Center Blvd, Fayetteville, AR 72701, had submitted an application to register the pesticide product, LockDown retro, a herbicide. (EPA File Symbol 82681-R), containing Colletotrichum gloeosporioides f.sp. aeschynomene and fermentation medium at 45%. This product was not previously registered.

The application was approved on March 28, 2006, as LockDown retro (EPA Registration Number 82681-1) for herbicidal use.

List of Subjects

Environmental protection, Chemicals, Pesticides and pests.

April 6, 2006.
Janet L. Andersen,
Director, Biopesticides and Pollution Prevention Division, Office of Pesticide Programs.

[FR Doc. E6-5573 Filed 4-13-06; 8:45 am]

BILLING CODE 6560-50-S